NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 19, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2020-011

1. Applicant: Heather J. Lynch, Stony Brook University, 610 Life Sciences Building, Stony Brook, NY 11794.

Activity for Which Permit is Requested: Waste management. The applicant proposes to operate small, battery-operated remotely piloted aircraft systems (RPAS) consisting, in part, of a quadcopter equipped with cameras to survey chinstrap penguin colonies in the South Shetland Islands in support of scientific research. The RPAS would be operated by trained and experienced pilots. Several additional measures would be taken to prevent against loss of the aircraft including maintaining visible line of sight, return to take-off location in case of loss of communication, conducting operations when the windspeed is 10 m/s or less, and use of observers during operations in unusual terrain. Flight times would be approximately 25 minutes each. The applicant is seeking a waste permit to cover any accidental releases that may result from operating the RPAS. The applicant would also bring small, closed containers of gas propane ashore to be used for emergency purposes only (e.g., need to remain onshore for extended periods).

Location: ASPA 152 Western Bransfield Strait; South Shetland Islands: Low Island, Smith Island, Snow Island, Elephant Island; Antarctic Peninsula region.

Dates of Permitted Activities: January 1-March 1, 2020.

Permit Application: 2020-019

2. Applicant: Bob Simpson, Vice President, Expedition Cruising, Abercrombie & Kent USA LLC, 1411 Opus Place, Executive Towers West II, Suite #300, Downers Grove, Illinois 60515-1182.

Activity for Which Permit is Requested: Waste management. The applicant proposes to operate small, battery-operated remotely piloted aircraft systems (RPAS) consisting, in part, of a quadcopter equipped with cameras to collect commercial and educational footage of the Antarctic. The quadcopter would not be flown over concentrations of birds or mammals, or over Antarctic Specially Protected Areas or Historic Sites and Monuments. The RPAS would only be operated by pilots with extensive experience, who are pre-approved by the Expedition Leader. Several measures would be taken to prevent against loss of the quadcopter including painting the them a highly visible color; only flying when the wind is less than 25 knots; flying for only 15 minutes at a time to preserve battery life; having prop guards on propeller tips, a flotation device if operated over water, and an “auto go home” feature in case of loss of control link or low battery; having an observer on the lookout for wildlife, people, and other hazards; and ensuring that the separation between the operator and quadcopter does not exceed an operational range of 500 meters. The applicant is seeking a Waste Permit to cover any accidental releases that may result from operating the RPAS.

Location: Antarctic Peninsula region.

Dates of Permitted Activities: December 9, 2019-March 30, 2020.

Permit Application: 2020-020

3. Applicant: Lisa Bolton, Scenic USA, One Financial Center, Suite 400, Boston, MA 02111.

Activity for Which Permit is Requested: Waste management. The applicant proposes to operate small, battery-operated remotely piloted aircraft systems (RPAS) consisting, in part, of a quadcopter equipped with cameras to collect commercial and educational footage of the Antarctic. The quadcopter would not be flown over concentrations of birds or mammals, or over Antarctic Specially Protected Areas or Historic Sites and Monuments. The RPAS would only be operated by pilots with extensive experience, who are pre-approved by the Expedition Leader. Several measures would be taken to prevent against loss of the quadcopter including painting the them a highly visible color; only flying when the wind is less than 25 knots; flying for only 15 minutes at a time to preserve battery life; having prop guards on propeller tips, a flotation device if operated over water, and an “auto go home” feature in case of loss of control link or low battery; having an observer on the lookout for wildlife, people, and other hazards; and ensuring that the separation between the operator and quadcopter does not exceed an operational range of 500 meters. The applicant would also operate two helicopters for sightseeing in the Antarctic Peninsula region. No landings would occur, except in the case of emergency. Helicopters will be garaged, fueled, and serviced on board the Scenic Eclipse. Helicopter operations will only occur weather conditions, including sufficiently low winds, that allow easy take-off and landing. Helicopters will be operated by trained, certified, and experienced pilots. Helicopters will carry emergency gear including cooking fuel and radios. The applicant is seeking a Waste Permit to cover any accidental releases that may result from operating the RPAS and helicopters.

Location: Antarctic Peninsula region.

Dates of Permitted Activities: November 26, 2019-March 31, 2020.

Erika N. Davis,
Program Specialist, Office of Polar Programs.

[FR Doc. 2019-25025 Filed 11-18-19; 8:45 am]

BILLING CODE 7555-01-P